DEPARTMENT OF HEALTH AND HUMAN SERVICES

Centers for Disease Control and Prevention

Disease, Disability, and Injury Prevention and Control Special Emphasis Panel (SEP)—CE22-009, Rigorous Evaluation of Community-Level Substance Use and Overdose Prevention Frameworks That Incorporate ACEs-Related Prevention Strategies; Amended Notice of Meeting

Notice is hereby given of a change in the meeting of the Disease, Disability, and Injury Prevention and Control Special Emphasis Panel CE22-009, Rigorous Evaluation of Community-Level Substance Use and Overdose Prevention Frameworks that Incorporate ACEs-Related Prevention Strategies; April 26-27, 2022, 8:30 a.m.-5:30 p.m. EDT, via Web Conference, in the original FRN. The meeting was published in the Federal Register on January 14, 2022, Volume 87, Number 10, page/s/2439.

The meeting is being amended to change the meeting date and should read as follows:

CE22-009, Rigorous Evaluation of Community-Level Substance Use and Overdose Prevention Frameworks that Incorporate ACEs-Related Prevention Strategies: April 26, 2022.

The meeting is closed to the public.

FOR FURTHER INFORMATION CONTACT: Aisha L. Wilkes, M.P.H., Scientific Review Official, National Center for Injury Prevention and Control, CDC, 4770 Buford Highway NE, Mailstop S106-9, Atlanta, Georgia 30341, Telephone (404) 639-6473, AWilkes@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-04341 Filed 3-1-22; 8:45 am]

BILLING CODE 4163-18-P